DEPARTMENT OF HEALTH AND HUMAN SERVICES

Centers for Disease Control and Prevention

Disease, Disability, and Injury Prevention and Control Special Emphasis Panel: Targeted Evaluation of the President's Emergency Plan for AIDS Relief (PEPFAR) Funded Prevention of Mother-to-Child HIV Transmission (PMTCT), and Adherence to Antiretroviral Therapy (ART) Programs, Contract Solicitation Numbers (CSN) 2006-N-08428, 2006-N-08429, and 2006-N-08430

Correction: This notice was published in the Federal Register on June 9, 2006, Volume 71, Number 111, page 33456. The location of the meeting was changed due to insufficient meeting space at the Renaissance Concourse Hotel—Marriott, One Hartsfield Center Parkway, Atlanta, GA 30354. The meeting was held at the Hilton Atlanta Airport, 1031 Virginia Avenue, Atlanta, Georgia 30354.

Titles: Targeted Evaluation of the President's Emergency Plan for AIDS Relief (PEPFAR) Funded Prevention of Mother-to-Child HIV Transmission (PMTCT), and Adherence to Antiretroviral Therapy (ART) Programs, Contract Solicitation Numbers (CSN) 2006-N-08428, 2006-N-08429, and 2006-N-08430.

For Further Information Contact: Amy L. Sandul, Health Scientist, National Center for HIV, STD, and Tuberculosis Prevention, Centers for Disease Control and Prevention, 1600 Clifton Road, NE., MS E-41, Atlanta, GA 30333, Telephone 404-639-6485.

The Director, Management Analysis and Services Office, has been delegated the authority to sign Federal Register notices pertaining to announcements of meetings and other committee management activities, for both CDC and the Agency for Toxic Substances and Disease Registry.

Dated: July 3, 2006.
Alvin Hall,
Director, Management Analysis and Services Office, Centers for Disease Control and Prevention.

[FR Doc. E6-10774 Filed 7-10-06; 8:45 am]

BILLING CODE 4163-18-P